DEPARTMENT OF HEALTH AND HUMAN SERVICES

Centers for Disease Control and Prevention

Advisory Committee on Breast Cancer in Young Women (ACBCYW); Cancellation of Meeting

Notice is hereby given of a change in the meeting of the Advisory Committee on Breast Cancer in Young Women (ACBCYW); May 13, 2020, 8:00 a.m. to 1:00 p.m., EDT.

The teleconference and web conference, which was published in the Federal Register on March 16, 2020, Volume 85, Number 51, page 14945, is being canceled in its entirety.

FOR FURTHER INFORMATION CONTACT: Jeremy McCallister, Designated Federal Officer, National Center for Chronic Disease Prevention and Health Promotion, CDC, 4770 Buford Hwy. NE, Mailstop S107-4, Atlanta, Georgia 30341, Telephone (404) 639-7989, Fax (770) 488-4760; Email: acbcyw@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-09305 Filed 4-30-20; 8:45 am]

BILLING CODE 4163-18-P